DEPARTMENT OF COMMERCE

Foreign-Trade Zones Board

[B-42-2015]

Foreign-Trade Zone 258—Bowie County, Texas; Application for Reorganization Under Alternative Site Framework

An application has been submitted to the Foreign-Trade Zones (FTZ) Board by the TexAmericas Center, grantee of FTZ 258, requesting authority to reorganize the zone under the alternative site framework (ASF) adopted by the FTZ Board (15 CFR Sec. 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on June 22, 2015.

FTZ 258 was approved by the FTZ Board on October 9, 2003 (Board Order 1287, 68 FR 61395, 10/28/2003). The current zone includes the following sites: Site 1 (524 acres)—Red River Commerce Park located approximately 18 miles west of Texarkana and the Texas-Arkansas border in Bowie County; and, Site 2 (160 acres)—City of Nash Industrial Park located approximately 15 miles west of Texarkana and the Texas-Arkansas border in Bowie County.

The grantee's proposed service area under the ASF would be a portion of Bowie County, Texas, as described in the application. If approved, the grantee would be able to serve sites throughout the service area based on companies' needs for FTZ designation. The proposed service area is adjacent to the Shreveport-Bossier City Customs and Border Protection port of entry.

The applicant is requesting authority to reorganize its existing zone to include all of the existing sites as “magnet” sites. The ASF allows for the possible exemption of one magnet site from the “sunset” time limits that generally apply to sites under the ASF, and the applicant proposes that Site 1 be so exempted. No subzones/usage-driven sites are being requested at this time.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is August 28, 2015. Rebuttal comments in response to material submitted during the foregoing period may be submitted during the subsequent 15-day period to September 14, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or (202) 482-2350.

Dated: June 22, 2015.
Elizabeth Whiteman,
Acting Executive Secretary.

[FR Doc. 2015-15797 Filed 6-26-15; 8:45 am]

BILLING CODE 3510-DS-P